FEDERAL ELECTION COMMISSION

Sunshine Act Notice

Correction

In notice document 03-1669 beginning on page 3253 in the issue of Thursday, January 23, 2003 make the following correction:

On page 3253, in the third column, in the second STATUS heading, “closed”, should read, “open”.

[FR Doc. C3-1669 Filed 1-27-03; 8:45 am]

BILLING CODE 1505-01-D

DEPARTMENT OF TRANSPORTATION

Federal Aviation Administration

Notice of Intent to Rule on Application 03-05-C-00-RIC to, Impose and Use the Revenue From a Passenger Facility Charge (PFC) at Richmond International Airport, Richmond, VA

Correction

In notice document 02-32418 appearing on page 78562 in the issue of Tuesday, December 24, 2002 make the following correction:

On page 78562, in the second column, after the first full paragraph, under the section Proposed charge expiration date:, in the second line, “2005”, should read, “2025”.

[FR Doc. C2-32418 Filed 1-27-03; 8:45 am]

BILLING CODE 1505-01-D